DEPARTMENT OF AGRICULTURE

Animal and Plant Health Inspection Service

7 CFR Part 319

[Docket No. APHIS-2009-0100]

RIN 0579-AD35

Irradiation Treatment; Location of Facilities in the Southern United States; Technical Amendment

AGENCY: Animal and Plant Health Inspection Service, USDA.

ACTION: Final rule; technical amendment.

SUMMARY: In a final rule that was published in the Federal Register on July 20, 2012, and effective on August 20, 2012, we amended the phytosanitary treatment regulations to, among other things, allow for irradiation treatment of mangoes from India upon arrival in the mainland United States rather than just at the point of origin. In the final rule, we neglected to amend the inspection requirements to address shipments that are treated upon arrival in the United States and not at the point of origin. This document corrects that error.

DATES: Effective Date: September 21, 2012.

FOR FURTHER INFORMATION CONTACT: Dr. Inder P. S. Gadh, Senior Risk Manager-Treatments, PPQ, APHIS, 4700 River Road Unit 133, Riverdale, MD 20737-1236; (301) 851-2018.

SUPPLEMENTARY INFORMATION: The phytosanitary treatment regulations contained in 7 CFR part 305 (referred to below as the regulations) set out the general requirements for performing treatments and certifying or approving treatment facilities for fruits, vegetables, and other articles to prevent the introduction or dissemination of plant pests or noxious weeds into or through the United States. The Animal and Plant Health Inspection Service (APHIS) of the U.S. Department of Agriculture administers these regulations.

In a final rule ¹ published in the Federal Register on July 20, 2012 (77 FR 4261-4265, Docket No. APHIS-2009-0100), with an effective date of August 20, 2012, we amended the regulations in § 319.56-46 to allow for irradiation treatment of mangoes from India upon arrival in the mainland United States rather than just at the point of origin.

¹ To view the final rule and related documents, go to http://www.regulations.gov/#!docketDetail;D=APHIS-2009-0100.

Paragraph (c) of § 319.56-46 indicates that each consignment of mangoes must be inspected jointly by APHIS and the national plant protection organization (NPPO) of India as part of the required preclearance inspection activities. Paragraph (e) of § 319.56-46 also indicates that joint inspection by APHIS and the NPPO of India is required. While joint inspection and preclearance are practical when irradiation treatment is applied in the country of origin, it is more useful and cost effective for the NPPO of India to inspect the fruit in India and for APHIS to inspect the fruit upon arrival in the United States when irradiation treatment is applied in the United States. This also ensures compliance with the standard ² of the International Plant Protection Convention, of which the United States is a contracting party, of applying the least restrictive measures resulting in the minimal impact to trade while effectively managing plant pest risks. We are therefore removing the words “jointly” and “preclearance” from § 319.56-46(c) and the word “jointly” from § 319.56-46(e) to allow inspections to occur separately in India and the United States when appropriate.

² International Standard for Phytosanitary Measures (ISPM) Number 1. To view this and other ISPMS on the Internet, go to http://www.ippc.int/IPP/En/default.jsp and click on the “Adopted Standards” link under the “Core Activities” heading.

List of Subjects in 7 CFR Part 319

Coffee, Cotton, Fruits, Imports, Logs, Nursery stock, Plant diseases and pests, Quarantine, Reporting and recordkeeping requirements, Rice, Vegetables.

Accordingly, we are amending 7 CFR part 319 as follows:

PART 319—FOREIGN QUARANTINE NOTICES

1. The authority citation for part 319 continues to read as follows:

Authority: 7 U.S.C. 450, 7701-7772, and 7781-7786; 21 U.S.C. 136 and 136a; 7 CFR 2.22, 2.80, and 371.3.

§ 319.56-46 [Amended]

2. Section § 319.56-46 is amended as follows:

a. In paragraph (c), by removing the words “jointly” and “preclearance”.

b. In paragraph (e), by removing the word “jointly”.

Done in Washington, DC, this 17th day of September 2012.
Kevin Shea,
Acting Administrator, Animal and Plant Health Inspection Service.

[FR Doc. 2012-23346 Filed 9-20-12; 8:45 am]

BILLING CODE 3410-34-P